FEDERAL RESERVE SYSTEM

Agency Information Collection Activities: Announcement of Board Approval Under Delegated Authority and Submission to OMB

AGENCY: Board of Governors of the Federal Reserve System.

SUMMARY: The Board of Governors of the Federal Reserve System (Board) is adopting a proposal to implement the Ad Hoc Clearance for Board-Wide Use (FR 3100; OMB No. 7100-NEW).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority To Implement the Following Information Collection Collection

Collection title: Ad Hoc Clearance for Board-Wide Use.

Collection identifier: FR 3100.

OMB control number: 7100-NEW.

Effective Date: October 30, 2023.

General description of collection: Information under this ad hoc information collection would be collected from Board-regulated entities, other stakeholders, and the public (collectively, respondents) through to-be-defined surveys, interviews, and focus groups, and other similar activities about a variety of financial service-related topics and the Board's operations. The clearance would help the Board understand respondents' perspectives, experiences, and expectations regarding the financial system and Board operations and would be used to inform the Board's initiatives to promote financial system stability, supervise and regulate financial institutions and financial activities, and promote consumer protection and community development.

Frequency: As needed.

Respondents: Individuals, institutions, state and local governments, and other persons of interest to the Board.

Total estimated number of respondents: 850.

Total estimated annual burden hours: 17,000.¹

¹ More detailed information regarding this collection, including more detailed burden estimates, can be found in the OMB Supporting Statement posted at https://www.federalreserve.gov/apps/reportingforms/home/review. On the page displayed at the link, you can find the OMB Supporting Statement by referencing the collection identifier, FR 3100.

Current actions: On May 15, 2023, the Board published an initial notice in the Federal Register (88 FR 30972) requesting public comment for 60 days on the implementation of the FR 3100. The comment period for this notice expired on July 14, 2023. The Board did not receive any comments. The collection will be implemented as proposed.

Board of Governors of the Federal Reserve System, September 22, 2023.
Erin M. Cayce,
Assistant Secretary of the Board.

[FR Doc. 2023-21157 Filed 9-27-23; 8:45 am]

BILLING CODE 6210-01-P